DEPARTMENT OF LABOR

Occupational Safety and Health Administration

29 CFR Parts 1910, 1915, and 1926

[Docket No. OSHA-2010-0034]

RIN 1218-AB70

Occupational Exposure to Crystalline Silica; Extension of Comment Period

AGENCY: Occupational Safety and Health Administration (OSHA), Labor.

ACTION: Proposed rule; extension of comment period.

SUMMARY: The Occupational Safety and Health Administration (OSHA) is extending the deadline for submitting comments and written testimony on the Notice of Proposed Rulemaking (NPRM) on Occupational Exposure to Crystalline Silica.

DATES: The comment period for the proposed rule published September 12, 2013 (78 FR 56274), extended on October 31, 2013 (78 FR 65242), is further extended. Comments and written testimony on the NPRM must be submitted (postmarked, sent, or received) by Tuesday, February 11, 2014.

ADDRESSES: Comments and written testimony. You may submit comments and written testimony, identified by Docket No. OSHA-2010-0034, by any of the following methods:

Electronically: You may submit comments and written testimony along with attachments electronically at http://www.regulations.gov, which is the Federal e-Rulemaking Portal. Click on the “COMMENT NOW!” box next to the title “Occupational Exposure to Crystalline Silica; Extension of Comment Period,” and follow the instructions on-line for making electronic submissions.

Fax: If your submissions, including attachments, are not longer than 10 pages, you may fax them to the OSHA Docket Office at (202) 693-1648.

Mail, hand delivery, express mail, messenger, or courier service: You may submit your comments and written testimony to the OSHA Docket Office, Docket No. OSHA-2010-0034, U.S. Department of Labor, Room N-2625, 200 Constitution Avenue NW., Washington, DC 20210, telephone (202) 693-2350 (OSHA's TTY number is (877) 889-5627). Deliveries (hand, express mail, messenger, or courier service) are accepted during the Department of Labor's and Docket Office's normal business hours, 8:15 a.m. to 4:45 p.m., E.T.

Instructions: All submissions must include the Agency name and the docket number for this rulemaking (Docket No. OSHA-2010-0034). All comments and written testimony, including any personal information you provide, are placed in the public docket without change and may be made available online at http://www.regulations.gov. Therefore, OSHA cautions you about submitting personal information such as Social Security numbers and birthdates. Because of security-related procedures, the use of regular mail may cause a significant delay in the receipt of your submissions. For information about security-related procedures for submitting materials by express delivery, hand delivery, messenger, or courier service, please contact the OSHA Docket Office. For additional information on submitting comments and written hearing testimony, see Section XV of the NPRM preamble, Public Participation (78 FR 56274, 56440-56442; September 12, 2013).

Docket: To read or download comments and written testimony submitted in response to this Federal Register notice, go to Docket No. OSHA-2010-0034 at http://www.regulations.gov or to the OSHA Docket Office at the address above. All comments and submissions are listed in the http://www.regulations.gov index; however, some information (e.g., copyrighted material) is not publicly available to read or download through that Web site. All comments and submissions are available for inspection and, where permissible, copying at the OSHA Docket Office.

Electronic copies of this Federal Register document are available at http://regulations.gov. Copies also are available from the OSHA Office of Publications, Room N-3101, U.S. Department of Labor, 200 Constitution Avenue NW., Washington, DC 20210; telephone (202) 693-1888. This document, as well as news releases and other relevant information, is also available at OSHA's Web site at http://www.osha.gov.

FOR FURTHER INFORMATION CONTACT: For general information and press inquiries, contact Frank Meilinger, Director, Office of Communications, Room N-3647, OSHA, U.S. Department of Labor, 200 Constitution Avenue NW., Washington, DC 20210; telephone (202) 693-1999; email meilinger.francis2@dol.gov. For technical inquiries, contact William Perry or David O'Connor, Directorate of Standards and Guidance, Room N-3718, OSHA, U.S. Department of Labor, 200 Constitution Avenue NW., Washington, DC 20210; telephone (202) 693-1950 or fax (202) 693-1678. For hearing inquiries, contact Frank Meilinger, Director, Office of Communications, Room N-3647, OSHA, U.S. Department of Labor, 200 Constitution Avenue NW., Washington, DC 20210; telephone (202) 693-1999; email meilinger.francis2@dol.gov.

SUPPLEMENTARY INFORMATION: OSHA published a notice of proposed rulemaking on September 12, 2013, for occupational exposure to respirable crystalline silica (78 FR 56274). This notice requested comments and written testimony by December 11, 2013 and established the public hearing to commence on March 4, 2014. OSHA subsequently extended the deadline for submitting comments and written testimony to January 27, 2014; and the commencement of the hearings to now begin March 18, 2014 (78 FR 65242). OSHA is now extending the deadline for submitting comments and written testimony until February 11, 2014. The date for commencement of the hearings remains March 18.

Authority and Signature: This document was prepared under the direction of David Michaels, Ph.D., MPH, Assistant Secretary of Labor for Occupational Safety and Health, U.S. Department of Labor, 200 Constitution Avenue NW., Washington, DC 20210, pursuant to sections 4, 6, and 8 of the Occupational Safety and Health Act of 1970 (29 U.S.C. 653, 655, 657); section 107 of the Contract Work Hours and Safety Standards Act (the Construction Safety Act) (40 U.S.C. 333); section 41 of the Longshore and Harbor Worker's Compensation Act (33 U.S.C. 941); Secretary of Labor's Order No. 1-2012 (77 FR 3912, January 25, 2012); and 29 CFR Part 1911.

David Michaels,
Assistant Secretary of Labor for Occupational Safety and Health.

[FR Doc. 2014-01728 Filed 1-24-14; 4:15 pm]

BILLING CODE 4510-26-P